ENVIRONMENTAL PROTECTION AGENCY

40 CFR Part 52

[EPA-R09-OAR-2008-0693, EPA-R09-OAR-2009-0492, EPA-R09-OAR-2009-0344; FRL-8943-6]

Revisions to the California State Implementation Plan, California Air Resources Board and San Joaquin Valley Air Pollution Control District; Extensions of Comment Periods

AGENCY: Environmental Protection Agency (EPA).

ACTION: Proposed rule; extensions of comment periods.

SUMMARY: The EPA is announcing extensions of the comment periods until August 31, 2009 for three actions proposed on July 10 and July 14, 2009. These proposed actions concern approval of California's Reformulated Gasoline and Diesel Fuels programs (74 FR 33196 (July 10, 2009), correction 74 FR 35838 (July 21, 2009)); limited approval and limited disapproval of San Joaquin Valley Air Pollution Control District's (SJVAPCD) Rule 4570 “Confined Animal Facilities” (74 FR 33948 (July 14, 2009); and partial approval and partial disapproval of the 1-Hour Ozone Extreme Area Plan for the San Joaquin Valley (74 FR 33933 (July 14, 2009).

DATES: Comments must be received on these proposals by August 31, 2009.

ADDRESSES: Submit comments, separately for each proposed action and identified by the correct docket number, by one of the following methods:

1. Federal eRulemaking Portal: http://www.regulations.gov. Follow the on-line instructions.through

2. E-mail: See below under the FOR FURTHER INFORMATION CONTACT section.

3. Mail or deliver: Air Division, U.S. Environmental Protection Agency Region IX, 75 Hawthorne Street, San Francisco, CA 94105-3901. Please mark your comments to the attention of the appropriate contact listed below under the FOR FURTHER INFORMATION CONTACT section.

Instructions: All comments will be included in the public docket without change and may be made available online at http://www.regulations.gov, including any personal information provided, unless the comment includes Confidential Business Information (CBI) or other information whose disclosure is restricted by statute. Information that you consider CBI or otherwise protected should be clearly identified as such and should not be submitted through http://www.regulations.gov or e-mail. http://www.regulations.gov is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the dockets for these actions are available electronically at http://www.regulations.gov and in hard copy at EPA Region IX, 75 Hawthorne Street, San Francisco, California. While all documents in these dockets are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: For the California fuels programs: Jeffrey Buss, AIR-2, EPA Region IX, (415) 415-947-4152, buss.jeffrey@epa.gov.

For SJVAPCD's Rule 4570: Andrew Steckel, AIR-4, EPA Region IX, 415-947-4115, steckel.andrew@epa.gov.

For the SJV 1-hour ozone plan: Frances Wicher, AIR-2, EPA Region IX, (415) 972-3957, wicher.frances@epa.gov.

SUPPLEMENTARY INFORMATION: On July 10 and 14, EPA proposed the following revisions to the California State Implementation Plan (SIP).

Agency | Rule, regulation or plan | Proposed action, Federal Register cite and docket number
Air Resources Board | Reformulated Gasoline and Diesel Fuels | Approval; 74 FR 33196 (July 10, 2009), correction 74 FR 35838 (July 21, 2009); EPA-R09-OAR-2009-0344.
SJVAPCD | 4570—Confined Animal Facilities | Limited Approval/Disapproval; 74 FR 33948 (July 14, 2009); EPA-R09-OAR-2009-0492.
SJVAPCD | 1-Hour Ozone Extreme Area Plan | Partial Approval/Disapproval; 74 FR 33933 (July 14, 2009); EPA-R09-OAR-2008-0693.

The proposed actions each provided a 30-day public comment period. In response to a request submitted by e-mail on July 10, 2009, from Brent Newell, Center for Race, Poverty, and the Environment on behalf of the Association of Irritated Residents and the Natural Resources Defense Council, EPA is extending the comment periods on all three proposals until August 31, 2009.

Dated: July 29, 2009.
Laura Yoshii,
Acting Regional Administrator, Region IX.

[FR Doc. E9-19189 Filed 8-10-09; 8:45 am]

BILLING CODE 6560-50-P